DEPARTMENT OF THE INTERIOR

Fish and Wildlife Service

Receipt of a Revised Application for an Incidental Take Permit for the Florida Scrub-Jay Resulting From Construction of a Multi-Home Subdivision in Marion County, FL

AGENCY: Fish and Wildlife Service, Interior.

ACTION: Notice.

SUMMARY: Southern Multicapital Corporation (Applicant) requests an incidental take permit (ITP) for a duration of ten years, pursuant to section 10(a)(1)(B) of the Endangered Species Act of 1973 (Act), as amended (U.S.C. 1531 et seq.). The Applicant anticipates destroying about 93 acres of occupied Florida scrub-jay (Aphelocoma coerulescens) (scrub-jay) habitat in Section 21, Township 16 South, Range 21 East, Marion County, Florida. Habitat destruction would be expected due to vegetation clearing and the subsequent construction of infrastructure and single-family homes. Up to four scrub-jay families could be taken as a result of the Applicant's proposed actions.

This ITP application was previously announced in the Federal Register on June 14, 2005. On July 29, 2005, the Applicant withdrew the Habitat Conservation Plan (HCP) that was part of the application, in order to make modifications. The Service suspended processing the application pending receipt of a modified HCP. The Applicant submitted the current HCP on August 1, 2005.

The Applicant's HCP describes the mitigation and minimization measures proposed to address the effects of the proposed project on the scrub-jay. These measures are outlined in the SUPPLEMENTARY INFORMATION section below. We announce the availability of the ITP application, HCP, and an environmental assessment. Copies of the application, HCP, and environmental assessment may be obtained by making a request to the Southeast Regional Office (see ADDRESSES). Requests must be in writing to be processed. This notice is provided pursuant to section 10 of the Act and National Environmental Policy Act (NEPA) regulations (40 CFR 1506.6).

DATES: Written comments on the ITP application, HCP, and environmental assessment should be sent to the Service's Southeast Regional Office (see ADDRESSES) and should be received on or before December 12, 2005.

ADDRESSES: Persons wishing to review the application, HCP, and environmental assessment may obtain a copy by writing the Service's Southeast Regional Office at the address below. Please reference permit application number TE098004-1 in such requests. Documents will also be available for public inspection by appointment during normal business hours either at the Southeast Regional Office, U.S. Fish and Wildlife Service, 1875 Century Boulevard, Suite 200, Atlanta, Georgia 30345 (Attn: Endangered Species Permits), or at the Jacksonville Field Office, U.S. Fish and Wildlife Service, 6620 Southpoint Drive South, Suite 310, Jacksonville, Florida 32216-0912 (Attn: Field Supervisor).

FOR FURTHER INFORMATION CONTACT: Mr. David Dell, Regional HCP Coordinator, Southeast Regional Office (see ADDRESSES above), at (404) 679-7313, facsimile: (404) 679-7081; or Mr. Mike Jennings, Fish and Wildlife Biologist, Jacksonville Field Office (see ADDRESSES above), at (904) 232-2580.

SUPPLEMENTARY INFORMATION: If you wish to comment, you may submit comments by any one of several methods. Please reference permit application number TE098004-1 in such comments. You may mail comments to the Service's Southeast Regional Office (see ADDRESSES). You may also comment via the Internet to david_dell@fws.gov. Please submit comments over the Internet as an ASCII file, avoiding the use of special characters and any form of encryption. Please also include your name and return address in your e-mail message. If you do not receive a confirmation from us that we have received your e-mail message, contact us directly at either telephone number listed above (see FOR FURTHER INFORMATION CONTACT). Finally, you may hand-deliver comments to either Service office listed above (see ADDRESSES). Our practice is to make comments, including names and home addresses of respondents, available for public review during regular business hours. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida scrub-jay (scrub-jay) is geographically isolated from other species of scrub-jays found in Mexico and the western United States. The scrub-jay is found exclusively in peninsular Florida and is restricted to xeric uplands (well-drained, sandy soil habitats supporting a growth of oak-dominated scrub). Increasing urban and agricultural development has resulted in habitat loss and fragmentation, which has adversely affected the distribution and numbers of scrub-jays. The total estimated population is between 7,000 and 11,000 individuals.

The decline in the number and distribution of scrub-jays in central Florida has been exacerbated by agricultural land conversions and urban growth in the past 50 years. Much of the historic commercial and residential development has occurred on the dry soils that previously supported scrub-jay habitat. Based on existing soils data, much of the current scrub-jay habitat of central Florida occurs in what was once the coastal sand dunes created over the millennia due to rising and falling oceans. These ancient dunes are most prevalent from southern Highlands County north to Marion County. Much of this area of Florida was settled early because few wetlands restricted urban and agricultural development. Due to the effects of urban and agricultural development over the past 100 years, much of the remaining scrub-jay habitat is now relatively small and isolated. What remains is largely degraded, due to interruption of the natural fire regime that is needed to maintain xeric uplands in conditions suitable for scrub-jays.

Residential construction would take place within Section 21, Township 16 South, Range 21 East, Marion County, Florida. Surveys conducted by the Applicant indicated that scrub-jays occupied 93 of the 137 acres proposed to be developed as a residential community. The clearing of vegetation for infrastructure and home construction would destroy feeding, breeding, and sheltering habitat of the scrub-jay.

The Applicant has not proposed to minimize impacts to scrub-jays at the proposed construction site because small, on-site scrub-jay preserves may actually harm scrub-jays by concentrating birds into an area where predators may attack them, increasing their susceptibility to collisions with automobiles, and increasing the incidence of competition with other more urban-adapted bird species. Instead of protecting habitat within the future residential community, the Applicant is proposing to acquire 158 acres, of which 102 acres is considered suitable for scrub-jays. The U.S. Forest Service has tentatively agreed to accept fee title and management responsibilities for the 158 acres which would be acquired by the Applicant. Although the Forest Service must work through processes and procedures prior to accepting the land donation and agreeing to restoration and management of the tract, it does not anticipate any issues to arise that would prevent this from happening. In addition, the acquisition and subsequent transfer of fee title would allow the U.S. Forest Service access to an additional 87 acres it currently owns but has been unable to manage due to restricted access.

In combination with the acquisition of the 158 acres described above, the Applicant proposes to contribute $366,758 to the Florida Scrub-jay Conservation Fund (Fund), administered by the National Fish and Wildlife Foundation (NFWF). Through an agreement between the Service and NFWF, scrub-jay mitigation funds deposited into the Fund are available for the conservation of Florida scrub-jays. Conservation efforts may include habitat acquisition, habitat restoration and habitat management.

The Service has made a preliminary determination that the issuance of the ITP is not a major Federal action significantly affecting the quality of the human environment within the meaning of section 102(2)(C) of NEPA. This preliminary information may be revised due to public comment received in response to this notice and is based on information contained in the environmental assessment and HCP.

The Service will evaluate the HCP and comments submitted thereon to determine whether the application meets the requirements of section 10(a)(1)(B) of the Act. If it is determined that those requirements are met, the ITP will be issued for incidental take of the Florida scrub-jay. The Service will also evaluate whether issuance of the section 10(a)(1)(B) ITP complies with section 7 of the Act by conducting an intra-Service section 7 consultation. The results of this consultation, in combination with the above findings, will be used in the final analysis to determine whether or not to issue the ITP.

Dated: September 27, 2005.
Cynthia K. Dohner,
Acting Regional Director.

[FR Doc. 05-20500 Filed 10-12-05; 8:45 am]

BILLING CODE 4310-55-P